DEPARTMENT OF COMMERCE

National Oceanic and Atmospheric Administration

[I.D. 022307A]

Endangered and Threatened Species; Initiation of a Status Review under the Endangered Species Act for Cusk

AGENCY: National Marine Fisheries Service (NMFS), National Oceanic and Atmospheric Administration, Commerce.

ACTION: Notice of initiation of a status review under the Endangered Species Act (ESA); request for information.

SUMMARY: We, NMFS, announce the initiation of a status review for the cusk and solicit information on the status of, and threats to, the species.

DATES: Information regarding the status of, and threats to, the cusk must be received by April 1, 2007.

ADDRESSES: You may submit information by any one of the following methods:

• Fax: 978-281-9394, Attention: Kim Damon-Randall-Damon

• Mail: Information on paper, disk, or CD-ROM should be addressed to the Assistant Regional Administrator for Protected Resources, NMFS, Protected Resources Division, One Blackburn Drive, Gloucester, MA 01930.

• E-mail: cuskinfo@noaa.gov. Include in the subject line the following identifier: cusk status review.

FOR FURTHER INFORMATION CONTACT: Kim Damon-Randall, NMFS Northeast Region, 978-281-9300 ext. 6535; or Marta Nammack, NMFS-HQ, Office of Protected Resources, 301-713-1401 ext. 180.

SUPPLEMENTARY INFORMATION:

Background

Because of concern over declines in abundance, we identified cusk (Brosme brosme) as a species of concern on April 15, 2004 (69 FR 19975). In May 2003, the Committee on the Status of Endangered Wildlife in Canada (COSEWIC) completed a status report for cusk in Canada and assessed the species status as threatened. In April 2006, the Minister of the Environment referred the assessment back to COSEWIC for further information and consideration. It is, therefore, unclear whether cusk will be listed in Canada under the Species at Risk Act.

Our Northeast Fisheries Science Center (NEFSC) autumn bottom trawl survey biomass index for cusk has fluctuated considerably, but a declining trend has been evident since the late 1960s, with all indices remaining at or close to record-low levels from 1985 through 2002 (Sosebee and Cadrin, 2006). The 1998 biomass index is near zero and is the record low. Cusk have been found to be distributed primarily in deeper waters in the central portion of the Gulf of Maine where a declining trend is also apparent on the distribution maps, and where very few fish were caught in 1993-1997 and 1998-2002 (Sosebee and Cadrin, 2006). Mean length has also declined from 24 inches (62 cm) during 1964 to 1987 to 19 inches (50 cm) during the period of 1988 to 1998. In the early 1970s, individual fish weight averaged 3 kg but was reduced by 50 percent to 1.5 kg in the late 1990s. Landings and survey indices have dropped considerably from 1984 to 2004 (NMFS, 2004). The ratio of landings to survey biomass estimates has been increasing since 1986, which implies increased exploitation over that time period.

In the United States, the cusk fishery is not presently managed. Fishing was unrestricted in Canada until 1999 when limitations were established for landings in the Scotia-Fundy region. Despite these limitations, fishing continues to be a source of mortality. Fishing mortality is one of the prime factors for the observed decline. This appears to be a transboundary species, and, as such, conservation measures may be needed both in the United States and Canada.

Our notice establishing the species of concern list states that as resources permit, we intend to conduct status reviews, collect documentation, and make appropriate amendments relevant to species on the list (69 FR 19975; April 15, 2004). As such, we are initiating a status review for cusk. We will use the status review report and any other information that we obtain during this process to determine if listing this species under the ESA is warranted or if this species should be retained or removed from the species of concern list.

Request for Information

To support this status review, we are soliciting information relevant to the status of and threats to the species, including, but not limited to, information on the following topics: (1) Historical and current abundance and distribution of the species; (2) potential factors for the species' decline throughout its range; (3) rates of capture and release of the species from both recreational and commercial fisheries; (4) post-release mortality; (5) life history information (size/age at maturity, growth rates, fecundity, reproductive rate/success, etc.); (6) morphological and molecular information to assist in determining stock structure; (7) threats to the species, particularly: (a) Present or threatened destruction, modification, or curtailment of habitat or range; (b) over-utilization for commercial, recreational, scientific, or educational purposes; (c) disease or predation; (d) inadequacy of existing regulatory mechanisms; or (e) other natural or manmade factors affecting its continued existence; and (8) any ongoing conservation efforts for the species. See DATES and ADDRESSES for guidance on and deadlines for submitting information.

Dated: March 5, 2007.
James H. Lecky,
Director, Office of Protected Resources, National Marine Fisheries Service.

[FR Doc. E7-4260 Filed 3-8-07; 8:45 am]

BILLING CODE 3510-22-S